OFFICE OF THE UNITED STATES TRADE REPRESENTATIVE

2025 Tariff Rate Quota Quantity Limitations Under the U.S.-Australia Free Trade Agreement; Correction

AGENCY: Office of the United States Trade Representative (USTR).

ACTION: Notice; correction.

SUMMARY: The Office of the United States Trade Representative (USTR) published a notice in the Federal Register on December 11, 2024 (December 11 notice), in accordance with the U.S.-Australia Free Trade Agreement, providing notice of the tariff-rate quota quantity limitations in calendar year 2025 of originating goods of Australia entering the United States under certain subheadings of the Harmonized Tariff Schedule of the United States (HTSUS). This notice corrects an error in the December 11 notice in paragraph 10 of the Annex.

DATES: The changes made by this notice are applicable on January 1, 2025.

FOR FURTHER INFORMATION CONTACT: Sarah Fasano, Office of Agricultural Affairs, 202.395.6127 or Sarah.E.Fasano@ustr.eop.gov.

SUPPLEMENTARY INFORMATION: In the December 11 notice (89 FR 99959), USTR provided notice of the tariff-rate quota quantity limitations in calendar year 2025 of originating goods of Australia entering the United States under certain subheadings of the HTSUS. USTR became aware of a ministerial error in paragraph 10 of the Annex of the December 11 notice. This paragraph indicates that for purposes of U.S. note 17 to subchapter XXII of chapter 98 of the HSTUS, the aggregate quantity of originating goods of Australia entered under subheading 9822.04.45 shall not exceed 1,355,423 metric tons for calendar year 2025. USTR is correcting this paragraph to indicate that for purposes of U.S. note 17 to subchapter XXII of chapter 98 of the HSTUS, the aggregate quantity of originating goods of Australia entered under subheading 9822.04.45 shall not exceed 1,355 metric tons for calendar year 2025.

Douglas McKalip,
Chief Agricultural Negotiator, Office of the United States Trade Representative.

[FR Doc. 2024-30657 Filed 12-23-24; 8:45 am]

BILLING CODE 3390-F4-P